DEPARTMENT OF COMMERCE

National Oceanic and Atmospheric Administration

RIN 0648-XC725

Endangered Species; File No. 18069

AGENCY: National Marine Fisheries Service (NMFS), National Oceanic and Atmospheric Administration (NOAA), Commerce.

ACTION: Notice; receipt of application.

SUMMARY: Notice is hereby given that Jeffrey Schmid, Ph.D., Conservancy of Southwest Florida, 1450 Merrihue Drive, Naples, FL 34102, has applied in due form for a permit to take Kemp's ridley (Lepidochelys kempii), loggerhead (Caretta caretta), green (Chelonia mydas), and hawksbill (Eretmochelys imbricata) sea turtles for purposes of scientific research.

DATES: Written, telefaxed, or email comments must be received on or before July 31, 2013.

ADDRESSES: The application and related documents are available for review by selecting “Records Open for Public Comment” from the Features box on the Applications and Permits for Protected Species (APPS) home page, https://apps.nmfs.noaa.gov, and then selecting File No. 18069 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Amy Hapeman or Rosa L. González, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to assess aggregations of marine turtles inhabiting the coastal waters of Charlotte Harbor and the Ten Thousand Islands in southwest Florida. Researchers would capture up to 100 Kemp's ridley, 20 green, 30 loggerhead, and five hawksbill sea turtles annually by strike net and perform the following procedures before release: measure, photograph, flipper and passive integrated transponder tag, weigh, and skin, scute and blood sample. A subset of the Kemp's ridleys would be transported to a facility and held for up to 48 hours for fecal collection for diet analysis prior to release. A subset of Kemp's ridleys and loggerheads also would have a satellite transmitter or radio and sonic transmitters attached to the carapace and would be tracked after release to investigate sea turtle migrations, movements, home range, and habitat associations.

Dated: June 25, 2013.
P. Michael Payne,
Chief, Permits and Conservation Division, Office of Protected Resources, National Marine Fisheries Service.

[FR Doc. 2013-15559 Filed 6-28-13; 8:45 am]

BILLING CODE 3510-22-P